FEDERAL RESERVE SYSTEM

Notice of Proposals To Engage in Permissible Nonbanking Activities or To Acquire Companies That Are Engaged in Permissible Nonbanking Activities

The companies listed in this notice have given notice under section 4 of the Bank Holding Company Act (12 U.S.C. 1843) (BHC Act) and Regulation Y, (12 CFR part 225) to engage de novo, or to acquire or control voting securities or assets of a company, including the companies listed below, that engages either directly or through a subsidiary or other company, in a nonbanking activity that is listed in § 225.28 of Regulation Y (12 CFR 225.28) or that the Board has determined by Order to be closely related to banking and permissible for bank holding companies. Unless otherwise noted, these activities will be conducted throughout the United States.

Each notice is available for inspection at the Federal Reserve Bank indicated. The notice also will be available for inspection at the offices of the Board of Governors. Interested persons may express their views in writing on the question whether the proposal complies with the standards of section 4 of the BHC Act. Additional information on all bank holding companies may be obtained from the National Information Center website at www.ffiec.gov/nic/.

Unless otherwise noted, comments regarding the applications must be received at the Reserve Bank indicated or the offices of the Board of Governors not later than May 30, 2000.

A. Federal Reserve Bank of Cleveland (Paul Kaboth, Banking Supervision) 1455 East Sixth Street, Cleveland, Ohio 44101-2566:

1. First State Bancshares, Inc., Middlesboro, Kentucky; to acquire LexBanc Corporation, Lexington, Kentucky, and thereby indirectly acquire Lexington Bank, FSB, Lexington, Kentucky, and thereby engage in permissible savings association activities, pursuant to § 225.28(b)(4) of Regulation Y. Comments regarding this application must be received not later than June 8, 2000.

B. Federal Reserve Bank of St. Louis (Randall C. Sumner, Vice President) 411 Locust Street, St. Louis, Missouri 63166-2034:

1. Area Bancshares Corporation, Owensboro, Kentucky; to acquire Area Trust Company, and thereby engage in the operation of a trust company, pursuant to § 225.28(b)(5) of Regulation Y.

2. Lima Bancshares, Inc., Lima, Illinois; to retain voting shares of East Dubuque Bancshares, Inc., East Dubuque, Illinois, and its subsidiary, East Dubuque Savings Bank, East Dubuque, Illinois, and thereby engage in operating a savings association, pursuant to § 225.28(b)(4) of Regulation Y. Comments regarding this application must be received not later than June 8, 2000.

3. Summit Bancorp, Inc., Arkadelphia, Arkansas; to engage de novo through its subsidiary, Summit Residential Services, Inc., Arkadelphia, Arkansas, in community development activities, pursuant to § 225.28(b)(12) of Regulation Y.

Board of Governors of the Federal Reserve System, May 9, 2000.
Robert deV. Frierson,
Associate Secretary of the Board.

[FR Doc. 00-12060 Filed 5-12-00; 8:45 am]

BILLING CODE 6210-01-P